POSTAL SERVICE

39 CFR Part 111

Customs Forms for Priority Mail To or From “969” ZIP Codes

AGENCY: Postal Service.

ACTION: Proposed rule.

SUMMARY: The Postal Service ™ proposes to require customs declarations on certain Priority Mail ® mailpieces to or from ZIP Codes ™ beginning with the prefix 969.

DATES: Submit comments on or before October 13, 2006.

ADDRESSES: Mail or deliver written comments to the Manager, Mailing Standards, Postal Service, 475 L'Enfant Plaza SW. RM 3436, Washington, DC 20260-3436. Copies of all written comments will be available for inspection and photocopying between 9 a.m. and 4 p.m., Monday through Friday, at the Postal Service Headquarters Library, 475 L'Enfant Plaza SW., 11th Floor North, Washington, DC.

FOR FURTHER INFORMATION CONTACT: Obataiye B. Akinwole, 202-268-7262.

SUPPLEMENTARY INFORMATION: In January 2003, the Postal Service published a Postal Bulletin article asking customers to affix either PS Form 2976, Customs Declaration CN22—Sender's Declaration, or PS Form 2976-A, Customs Declaration and Dispatch Note—CP72, to all mailpieces weighing 16 ounces or more addressed to Guam. In March 2003, we revised our request to include mailpieces addressed to all ZIP Codes beginning with the 969 ZIP Code prefix. We now propose to make this request a requirement for all domestic-rated Priority Mail pieces weighing 16 ounces or more, or containing dutiable merchandise, sent to or from ZIP Codes beginning with the prefix 969.

This revision to Postal Service standards, requiring an appropriate customs declaration for all mail sent to or from ZIP Codes beginning with the prefix 969, will improve service. It will also provide accountability, which will ensure efficient processing.

Although we are exempt from the notice and comment requirements of the Administrative Procedure Act [5 U.S.C. of 553(b), (c)] regarding proposed rulemaking by 39 U.S.C. 410(a), we invite public comment on the following proposed revisions to Mailing Standards of the United States Postal Service, Domestic Mail Manual, which is incorporated by reference in the Code of Federal Regulations. See 39 CFR 111.1.

List of Subjects in 39 CFR Part 111

Postal Service.

PART 111—[AMENDED]

1. The authority citation for 39 CFR Part 111 continues to read as follows:

Authority: 5 U.S.C. 552(a); 39 U.S.C. 101, 401, 403, 404, 414, 416, 3001-3011, 3201-3219, 3403-3406, 3621, 3626, 5001.

2. Amend Mailing Standards of the United States Postal Service, Domestic Mail Manual, as follows: Mailing Standards of the United States Postal Service, Domestic Mail Manual

* * * * *

600 Basic Standards for All Mailing Services

* * * * *

608 Postal Information and Resources

* * * * *

2.0 Domestic Mail

* * * * *

[Add new 2.4 as follows:]

2.4 Customs Forms Required

Regardless of contents, all Priority Mail containing dutiable merchandise or weighing 16 ounces or more sent from the United States to a ZIP Code beginning with the prefix 969, and all Priority Mail sent from a ZIP Code beginning with the prefix 969 to the United States, must bear either Form 2976 or Form 2976-A. This mail must be presented to an employee at a post office, to a letter carrier when using Click-N-Ship with Carrier Pickup, or to a Postal Service employee designated by the postmaster.

* * * * *

Neva R. Watson,
Attorney, Legislative.

[FR Doc. E6-15112 Filed 9-12-06; 8:45 am]

BILLING CODE 7710-12-P